DEPARTMENT OF JUSTICE

Drug Enforcement Administration

[Docket No. DEA-392]

Importer of Controlled Substances Registration: Hospira

ACTION: Notice of registration.

SUMMARY: Hospira applied to be registered as an importer of certain basic class of controlled substances. The Drug Enforcement Administration (DEA) grants Hospira registration as an importer of this controlled substance.

SUPPLEMENTARY INFORMATION: By notice dated March 20, 2015, and published in the Federal Register on March 27, 2015, 80 FR 16426, Hospira, 1776 North Centennial Drive, McPherson, Kansas 67460-1247 applied to be registered as an importer of a certain basic class of controlled substance. No comments or objections were submitted for this notice.

The DEA has considered the factors in 21 U.S.C. 823, 952(a) and 958(a) and determined that the registration of Hospira to import the basic class of controlled substance is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 952(a) and 958(a), and in accordance with 21 CFR 1301.34, the above-named company is granted registration as an importer of remifentanil (9739) a basic class of controlled substance listed in schedule II.

The company plans to import remifentanil for use in dosage form manufacturing.

Dated: July 29, 2015.
Joseph T. Rannazzisi,
Deputy Assistant Administrator.

[FR Doc. 2015-19106 Filed 8-3-15; 8:45 am]

BILLING CODE 4410-09-P